DEPARTMENT OF HEALTH AND HUMAN SERVICES

Administration for Children and Families

Administration on Children, Youth and Families Announces the Award of Five Single-Source Expansion Supplement Grants To Support Expanded Technical Assistance Activities in the Field of Child Welfare

AGENCY: Children's Bureau, ACYF, ACF, HHS.

ACTION: Notice announcing the award of five single-source expansion supplement grants to support expanded technical assistance activities that will address emerging issues, and technical assistance needs for States and Tribes as they seek to implement legislation and changing programs that support children and families in the child welfare system.

Project Period: September 30, 2011-September 29, 2012.

CFDA Numbers: 93.556; 93.648; 93.556; 93.658; 93.674; 93.652 .

Statutory Authorities: Fostering Connections to Success and Increasing Adoptions Act of 2008 (Pub. L. 110-351). Section 476(c)(2)(iii) of the Social Security Act, as amended by the Fostering Connections to Success and Increasing Adoptions Act of 2008 (Pub. L. 110-351). Section 476(c)(2)(iii) of the Social Security Act, as amended by the Fostering Connections to Success and Increasing Adoptions Act of 2008 (Pub. L. 110-351). Section 203 (42 U.S.C. 5113) of the Child Abuse Prevention and Treatment and Adoption Reform Act (CAPTA) of 1978, (Pub. L. 95-266), as amended. Section 203 (42 U.S.C. 5113) of the Child Abuse Prevention and Treatment and Adoption Reform Act (CAPTA) of 1978, (Pub. L. 95-266), as amended.

SUMMARY: The Administration for Children and Families (ACF), Administration on Children, Youth and Families (ACYF), Children's Bureau (CB) announces the award of five single-source program expansion supplement grants to the following organizations:

University of Oklahoma, National Resource Center for Youth Services, Tulsa, Oklahoma

Award Amount: $157,739.

Award funds will support expanded technical assistance to address emerging technical assistance needs for States and Tribes as they seek to implement legislation and changing programs dedicated to former foster youth. The grantee is the recipient of a cooperative agreement to administer the National Resource Center for Youth Development (NRCYD). The grantee has been providing technical assistance services through a cooperative agreement since September 30, 2009, pursuant to the legislative authority of the Promoting Safe and Stable Families Program, Section 435(d), Title IV-B, subpart 2, of the Social Security Act [42 U.S.C. 629e].

In February 2008, the National Youth in Transition Database (NYTD) final regulation was promulgated. NYTD requires States to begin collecting information from youth in foster care and young adults formerly in foster care every six months, beginning October 1, 2010. State representatives continue to identify implementation of NYTD as a significant challenge, particularly since it will require State agencies to remain in contact with youth who may no longer be receiving services from the agency. The implementation of NYTD over the next four years will require the NRCYD to continue to provide additional technical assistance to States to implement this regulation effectively. The supplement will allow the NRCYD to provide more intensive technical assistance and on-site consultation to States and Tribes to continue to assist them in implementing these provisions.

Research Foundation of CUNY on Behalf of Hunter College School of Social Work, New York, NY

Award Amount: $466,311.

Award funds will support expanded technical assistance to address continuing challenges in the field as child welfare programs work to implement the requirements of new legislation. The Research Foundation of CUNY on behalf of Hunter College is the recipient of a cooperative agreement to act as the administrator for National Resource Center for Permanency and Family Connections (NRCPFC), which provides technical assistance services pursuant to the legislative authority of the Promoting Safe and Stable Families Amendments of the Social Security Act (42 U.S.C. 629e).

The supplemental funding will allow the NRCPFC to:

1. Provide focused technical assistance to Family Connections grantees.

2. Engage States that did not receive discretionary grants in on-site consultation regarding effectively involving relatives in child welfare practice.

3. Proactively transfer the knowledge developed under the discretionary grant program to States to assist in meeting new plan requirements.

The supplemental funding will allow NRCPFC to increase technical assistance efforts to enhance the achievement of permanency by assisting agencies to better locate, notify, and involve families and relatives in the engagement and planning process while maintaining awareness of confidentiality issues.

Tribal Law and Policy Institute, West Hollywood, CA

Award Amount: $602,643.

Award funds will provide more intensive technical assistance to Tribes. The Tribal Law and Policy Institute administers the National Resource Center for Tribes under a cooperative agreement where technical assistance is provided to Tribes to assist in building organizational capacity so that Tribes may operate their own foster care programs under title IV-E of the Social Security Act. Under the agreement, Tribal Law and Policy Institute identifies promising practices in Tribal child welfare systems, identifies and effectively implements community, and culturally-based strategies and resources that strengthen Tribal child and family services.

Supplemental funding will support Regional Roundtables and build Tribal capacity in the following areas:

1. In-depth overview of the Fostering Connections Act, the Social Security Act, and Title IV-B & IV-E provisions and requirements to increase the knowledge and understanding of Tribal leaders, Tribal child welfare staff, and Tribal judges concerning these Federal laws and the requirements of this Federal funding.

2. Capacity building on developing infrastructure within the Tribal child welfare system, including policies and procedures, licensing standards, Tribal child welfare code, case management skill building and data collection.

3. Training for Tribal caseworkers and Tribal legal/judicial staff on the Fostering Connections Act and Title IV-B and IV-E Program requirements in order to document the eligibility and continue funding of Title IV-E eligible children and assure that all appropriate services are provided to children in care.

Research Foundation of SUNY, University of Albany, Albany, NY

Award Amount: $600,000.

Grant funds will allow the grantee to provide more intensive technical assistance to Tribes. The Research Foundation of SUNY administers the National Child Welfare Workforce Institute under a cooperative agreement. The goal of the National Child Welfare Workforce Institute is to build the capacity of the nation's child welfare workforce and improve outcomes for children, youth, and families through activities that support the development of skilled child welfare leaders.

Supplemental funding for the Workforce Institute will be focused on building the capacity of the Tribal child welfare workforce. The additional support will begin to address capacity needs as Tribes prepare to operate their own foster care, adoption, and guardianship assistance programs under title IV-E of the Social Security Act. Supplemental activities will expand services and supports for university traineeships for Native American students, and expand the Leadership Academy for Middle Managers (LAMM) to increase training and supports for Tribal middle managers in child welfare. There are five traineeship universities supporting American Indian students that will increase the total number of student stipends by at least 12 students, increase student stipend amounts, and increase student travel awards for travel to and from classes and field education placements and for relevant State Tribal conferences and meetings. The LAMM training will further build the capacity of Tribal Middle Managers who have already completed the basic Leadership Academy of Middle Managers by providing a three-day follow up residential advanced training and six months of coaching, as well as evaluation of this cultural adaptation of the current LAMM model for tribal participants.

Regents of the Board of the University of Michigan, Ann Arbor, Michigan

Award Amount: $300,000,

Award funds will support the grantee to provide more intensive technical assistance and conduct a rigorous evaluation of research and demonstration sites. The Regents of the University of Michigan administers the National Quality Improvement Center on the Representation of Children in the Child Welfare System (QIC-ChildRep) under a cooperative agreement. The purpose of the QIC-ChildRep is to improve the quality of legal representation for children and youth in child welfare cases so that States and Tribes achieve the best safety, permanency, and well-being outcomes for children and youth. This systems improvement model funds three research and demonstration sites, each involving a rigorous evaluation. Given the complexity of the models being implemented, considerable training, technical assistance, monitoring and support are necessary for each site to design and implement evaluation plans. Supplemental funds will allow for an increased level of effort in conducting evaluations to meet the requirements of the cooperative agreement. Additional training, technical assistance, and support to each research and demonstration site, coupled with more intensive monitoring of site specific evaluation efforts, will enhance the depth and rigor of all evaluation results.

FOR FURTHER INFORMATION CONTACT: Jan Shafer, Children's Bureau, 1250 Maryland Avenue SW., Washington, DC 20024. Telephone: (202) 205-8172; Email: jan.shafer@acf.hhs.gov.

Dated: October 13, 2011.
Bryan Samuels,
Commissioner, Administration on Children, Youth and Families.

[FR Doc. 2011-28038 Filed 10-28-11; 8:45 am]

BILLING CODE 4184-29-P